Title 3—

The President

Proclamation 10375 of April 27, 2022

Workers Memorial Day, 2022

By the President of the United States of America

A Proclamation

Throughout America's history, workers have sacrificed to grow our food, build our roads, transport our goods, provide care for our neighbors and families, and manufacture the products that are the envy of the world. Our strength and resilience as a Nation is due in no small measure to the strength and resilience of our workers. However, each year, millions of workers get injured or sick doing the work that provides for their families and supports all of ours. Tragically, thousands of workers are killed by preventable workplace accidents and illnesses. The dangers have never been more apparent than during the past 2 years of the pandemic. No worker should risk avoidable injury, illness, or even death in the course of doing their job. Ensuring worker safety is a national priority and a moral imperative. On this Workers Memorial Day, we honor and remember those who lost their lives on the job and reaffirm every worker's basic right to a safe and healthy workplace.

From my first day in office, I have made a priority of building our economy back stronger and empowering and protecting America's workers. These priorities are inextricably linked. A stronger economy built from the bottom up and the middle out puts greater power in workers' hands to improve their lives, provide for their families, and choose higher quality, higher paying, and safer jobs. Greater worker power means that workers have a stronger voice in their workplace, enabling them to advocate for safer working conditions. It also means workers secure a greater share of the economic success they create, which strengthens and expands America's middle class—the backbone of our Nation and our economy.

Today, workers across the country are beginning the long overdue work of rebuilding our Nation's roads and bridges, ports and waterways, public transit and passenger rail systems, and water and sewer lines while expanding electric vehicle charging station networks and broadband internet access in every community. In the coming years, millions of workers will be engaged in those efforts. The Bipartisan Infrastructure Law will create new jobs and modernize cities, small towns, and rural and Tribal communities across the country. And we are living up to our commitment that infrastructure jobs will be available to people of all races, genders, and backgrounds in every part of the country. We are committed to ensuring these jobs are safe and subject to high labor standards, including good wages, strong safety and health protections, and the free and fair choice to join or organize a union and collectively bargain with an employer. Through decades of organizing, negotiating, picketing, and protesting, labor unions secured vital workplace protections that union and non-union workers rely on today, and we are working to strengthen both unions and the workplace protections they provide.

On Workers Memorial Day, we mourn every worker who was lost on the job or from exposure to workplace hazards and join their families and everyone who loved and cared for them in turning pain into purpose. Their memories command us to continue our work toward a future in which no one has to risk their life for a paycheck. We honor the memories of the lives tragically taken from us and remain committed to safeguarding the health and safety of all workers.

NOW, THEREFORE, I, JOSEPH R. BIDEN JR., President of the United States of America, by virtue of the authority vested in me by the Constitution and the laws of the United States, do hereby proclaim April 28, 2022, as Workers Memorial Day. I call upon all Americans to observe this day with appropriate service, community, and education programs and ceremonies in memory of those killed or injured due to unsafe working conditions.

IN WITNESS WHEREOF, I have hereunto set my hand this twenty-seventh day of April, in the year of our Lord two thousand twenty-two, and of the Independence of the United States of America the two hundred and forty-sixth.

[FR Doc. 2022-09484

Filed 4-29-22; 8:45 am]

Billing code 3395-F2-P